DEPARTMENT OF EDUCATION

[Docket No.: ED-2013-ICCD-0137]

Agency Information Collection Activities; Agency Information Collection Activities; Submission to the Office of Management and Budget for Review and Approval; Comment Request; 2012/14 Beginning Postsecondary Students Longitudinal Study: (BPS:12/14)

AGENCY: Institute of Education Sciences (IES), National Center for Education Statistics; Department of Education (ED).

ACTION: Notice.

SUMMARY: In accordance with the Paperwork Reduction Act of 1995 (44 U.S.C. chapter 3501 et seq.), ED is proposing a revision of an existing information collection.

DATES: Interested persons are invited to submit comments on or before November 29, 2013.

ADDRESSES: Comments submitted in response to this notice should be submitted electronically through the Federal eRulemaking Portal at http://www.regulations.gov by selecting Docket ID number ED-2013-ICCD-0137 or via postal mail, commercial delivery, or hand delivery. Please note that comments submitted by fax or email and those submitted after the comment period will not be accepted. Written requests for information or comments submitted by postal mail or delivery should be addressed to the Acting Director of the Information Collection Clearance Division, U.S. Department of Education, 400 Maryland Avenue SW., LBJ, Room 2E105, Washington, DC 20202-4537.

FOR FURTHER INFORMATION CONTACT: For questions related to collection activities or burden, please call Kathy Axt at 540-776-7742 or electronically mail ICDocketMgr@ed.gov. Please do not send comments here.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2012/14 Beginning Postsecondary Students Longitudinal Study: (BPS:12/14).

OMB Control Number: 1850-0631.

Type of Review: A revision of an existing information collection.

Respondents/Affected Public: Individuals or households.

Total Estimated Number of Annual Responses: 29,355.

Total Estimated Number of Annual Burden Hours: 12,532.

Abstract: The 2012/14 Beginning Postsecondary Students Longitudinal Study (BPS:12/14), conducted by the National Center for Education Statistics (NCES), is designed to follow a cohort of students who enroll in postsecondary education for the first time during the 2011-2012 academic year, irrespective of date of high school completion. The study collects data on student persistence in, and completion of, postsecondary education programs; their transition to employment; demographic characteristics; and changes over time in their goals, marital status, income, and debt, among other measures. Data from BPS are used to help researchers and policymakers better understand how financial aid influences persistence and completion, what percentages of students complete various degree programs, what early employment and wage outcomes are for certificate and degree attainers, and why students leave school. This request is to conduct the BPS:12/14 first follow-up, including panel maintenance, student interviews, and administrative record matching. NCES conducted the BPS:12/14 field test data collection in spring 2013, and this submission is for the full scale data collection.

Dated: October 25, 2013.
Kate Mullan,
Acting Director, Information Collection Clearance Division, Privacy, Information and Records Management Services, Office of Management.

[FR Doc. 2013-25786 Filed 10-29-13; 8:45 am]

BILLING CODE 4000-01-P